DEPARTMENT OF THE INTERIOR

National Park Service

Submission of Study Package to Office of Management and Budget; Review Opportunity for Public Comment

AGENCY: Department of the Interior, National Park Service; Glacier National Park.

ACTION: Notice and request for comments.

ABSTRACT: In 2001, The National Park Service (NPS) is proposing to conduct a telephone survey of potential visitors to Glacier National Park, For purposes of this study, potential visitors are those that have expressed interest in visiting Glacier National Park by making contact with a state-funded tourism development office but subsequently did not visit. Survey results will help describe and quantify potential socio-economic impacts of Going-to-the-Sun Road rehabilitation alternatives by providing information regarding behavior of potential visitors if travel on Going-to-the-Sun Road is hampered.

The estimated number of responses is 700. At an average of one or ten minutes per interview, the expected burden is 64 hours.

SUMMARY: Under the provisions of the Paperwork Reduction Act of 1995 and 5 CFR part 1320, Reporting and Record Keeping Requirements, the NPS invites public comment on this proposed information collection request (ICR). Comments are invited on: (1) The need for the information including whether the information has practical utility; (2) the accuracy of the reporting burden estimate; (3) ways to enhance the quality, utility, and clarity of the information to be collected; and (4) ways to minimize the burden of the information collection on respondents, including the use of automated collection techniques or other forms of information technology.

The NPS goal in conducting this survey is to collect information that aids in assessing the potential socio-economic impacts of rehabilitation alternatives for Going-to-the-Sun Road. Direct responses from potential visitors will provide quality information upon which to develop reliable analyses.

There were no public comments received as a result of publishing in the Federal Register a 60-day notice of intention to request clearance of information collection for this survey.

DATES: Public comments will be accepted on or before May 29, 2001.

SEND COMMENTS TO: Office of Information and Regulatory Affairs of OMB, Attention Desk Officer for the Interior Department, Office of Management and Budget, Washington, DC 20503.

The OMB has up to 60 days to approve or disapprove the information collection but may respond after 30 days. Therefore, to ensure maximum consideration, OMB should receive public comments within thirty days from the date listed at the top of this page in the Federal Register.

FOR FURTHER INFORMATION OR A COPY OF THE STUDY PACKAGES SUBMITTED FOR OMB REVIEW, CONTACT: Fred Babb Voice: 406-888-7976; Email: fred_babb@nps.gov

SUPPLEMENTARY INFORMATION: Title: Survey of Potential Visitors to Glacier National Park.

Bureau Form Number: None.

OMB Number: 1024-new.

Expiration Date: September 30, 2001 (requested).

Type of request: Request for new clearance.

Title: Description of need: The National Park Service needs information to assess the potential socio-economic impacts of rehabilitation alternatives for Going-to-the-Sun Road.

Automated Data Collection: At the present time, there is no automated way to gather this information, since it includes asking potential visitors abut their travel plans and preferences if restrictions are imposed on Going-to-the Sun Road during rehabilitation.

Description of respondents: Respondents are potential visitors to Glacier National Park. These are individuals that made an inquiry to Travel Montana regarding Glacier National Park in the last 12 months prior to the inception of the study but did not visit Glacier National Park. Travel Montana is a state-sponsored tourism development organization.

Estimated average number of respondents: 700.

Estimated average number of responses: Each respondent will respond only one time, so the number of responses will be the same as the number of respondents, 700.

Estimated averaged burden hour per response: 1 minute or 10 minutes.

Frequency of Response: 1 time per respondent.

Estimated annual reporting burden: 64.2 hours.

Dated: April 5, 2001.
Betsy Chittenden,
Information Collection Clearance Officer, WASO Administrative Program Center, National Park Service.

[FR Doc. 01-10401 Filed 4-25-01; 8:45 am]

BILLING CODE 4310-70-M